DEPARTMENT OF THE INTERIOR

Office of Surface Mining Reclamation and Enforcement

30 CFR Parts 701, 736, 737, 738, and 750

[Docket ID OSM-2012-0003]

RIN 1029-AC65

Cost Recovery for Permit Processing, Administration, and Enforcement

Correction

In proposed rule document R1-2013-06950, appearing on pages 20394-20408 in the issue of Thursday, April 4, 2013, make the following correction:

§ 738.11 [Corrected]

In the table on page 20407, in the third row, fourth column, “1,300” should read “13,000”.

[FR Doc. C1-2013-06950 Filed 4-15-13; 8:45 am]

BILLING CODE 1505-01-D